NATIONAL SCIENCE FOUNDATION

Advisory Committee for Social, Behavioral and Economic Sciences; Notice of Meeting

In accordance with Federal Advisory Committee Act (Pub. L. 92-463, as amended), the National Science Foundation announces the following meeting:

Name:

Advisory Committee for Social, Behavioral and Economic Sciences (#1171).

Date/Time:

October 27, 2016; 9:00 a.m. to 5:00 p.m.

October 28, 2016; 8:45 a.m. to 12:45 p.m.

Place: National Science Foundation, 4201 Wilson Boulevard, Stafford I, Room 1235, Arlington, VA 22230.

Type of Meeting: Open.

Contact Person: Dr. Deborah Olster, Office of the Assistant Director, Directorate for Social, Behavioral and Economic Sciences, National Science Foundation, 4201 Wilson Boulevard, Room 905, Arlington, Virginia 22230; Telephone: 703-292-8700.

Summary of Minutes: May be obtained from contact person listed above.

Purpose of Meeting: To provide advice and recommendations to the National Science Foundation on major goals and policies pertaining to Social, Behavioral and Economic Sciences Directorate (SBE) programs and activities.

Agenda

Thursday, October 27, 2016

• SBE Directorate and Division Updates

• NSF Strategic Plan

• Update from the National Institutes of Health

• Division of Social and Economic Sciences (SES) Committee of Visitors Report and SES Response

• The National Academies' Division of Behavioral and Social Sciences and Education: Reflections from the Executive Director

• NSF “Big Idea” for Future Investment: Navigating the New Artic

• Report to the National Science Board on the NSF's Merit Review Process Fiscal Year 2015

Friday, October 28, 2016

• Meeting with NSF Leadership

• NSF “Big Idea” for Future Investment: Understanding the Rules of Life: Predicting Phenotype

• Reframing the Social and Behavioral Sciences

• Future Meetings, Assignments and Concluding Remarks

Dated: September 26, 2016.
Crystal Robinson,
Committee Management Officer.

[FR Doc. 2016-23644 Filed 9-29-16; 8:45 am]

BILLING CODE 7555-01-P